NUCLEAR REGULATORY COMMISSION

Advisory Committee on Reactor Safeguards; Meeting of the ACRS Joint Subcommittee; Revision to October 4, 2010, ACRS Meeting Federal Register Notice

The Federal Register Notice for the ACRS Joint Subcommittee Meeting scheduled to be held on October 4, 2010, is being revised to notify the following:

The meeting will be held on Tuesday, October 19, 2010, from 8:30 a.m. until 5 p.m.

The notice of this meeting was previously published in the Federal Register on Friday, September 10, 2010 [75 FR 55365]. All other items remain the same as previously published.

Further information regarding this meeting can be obtained by contacting Maitri Banerjee, Designated Federal Official (Telephone: 301-415-6973, E-mail: Maitri.Banerjee@nrc.gov between 7:30 a.m. and 5:15 p.m. (ET)).

Dated: September 17, 2010.
Antonio Dias,
Chief, Reactor Safety Branch B, Advisory Committee on Reactor Safeguards.

[FR Doc. 2010-23935 Filed 9-23-10; 8:45 am]

BILLING CODE 7590-01-P